FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 16, 2015.

A. Federal Reserve Bank of Minneapolis (Jacquelyn K. Brunmeier, Assistant Vice President) 90 Hennepin Avenue, Minneapolis, Minnesota 55480-0291:

1. Joel Sanders, Oakland, California, and James N. Sanders, Plymouth, Minnesota, as trustees of the Joel Sanders GRAT dated December 1, 2014, Oakland, California (GRAT); Sheva Sanders, Minneapolis, Minnesota, as a voting member of Rifkind Sanders, LLC, Minneapolis, Minnesota (LLC); Miriam Sanders, Minneapolis, Minnesota, as trustee of the Disclaimer Trust, Minneapolis, Minnesota (Disclaimer Trust); and Jerel Shapiro and Judith Shapiro, both of Minneapolis, Minnesota, as trustees of both the Judith T. Shapiro GST Trust, Minneapolis, Minnesota (JTS Trust), and the Jonathan J. Tychman Non-Exempt Trust, Minneapolis, Minnesota (JJT Trust), for retroactive permission for the GRAT, LLC, Disclaimer Trust, JTS Trust, and JJT Trust to join the Tychman/Sanders group, which controls 25 percent or more of The Tysan Corporation, Minneapolis, Minnesota, and thereby indirectly gain control of Lake Community Bank, Long Lake, Minnesota, and Pine Country Bank, Little Falls, Minnesota.

In addition, Jerel Shapiro and Judith Shapiro individually, and as trustees, of several Tychman/Sanders Group Trusts, to retain 25 percent or more of the shares of The Tysan Corporation, Minneapolis, Minnesota.

Board of Governors of the Federal Reserve System, March 27, 2015.
Michael J. Lewandowski,
Assistant Secretary of the Board.

[FR Doc. 2015-07445 Filed 3-31-15; 8:45 am]

BILLING CODE 6210-01-P